DEPARTMENT OF DEFENSE

Department of the Navy

Public Hearing for the Draft Environmental Impact Statement (DEIS) for Disposal and Reuse of Naval Station Treasure Island (NSTI), San Francisco, CA

AGENCY: Department of the Navy, DOD.

ACTION: Notice.

SUMMARY: Pursuant to section 102(2)(c) of the National Environmental Policy Act (NEPA) of 1969, as implemented by the Council on Environmental Quality regulations (40 CFR parts 1500-1508), the Department of the Navy (Navy) has prepared and filed with the United States Environmental Protection Agency (EPA) the DEIS for Disposal and Reuse of NSTI. A public hearing will be held to receive oral and written comments on the DEIS. Federal, state, and local agencies and interested individuals are invited to be present or represented at the hearing.

DATES AND ADDRESSES: A public hearing will be held on Tuesday, June 11, 2002, from 7:00 p.m. to 9:30 p.m. at the Nimitz Conference Center, Building 140, corner of “D” and “California” streets, Treasure Island, San Francisco, CA 94130 for the purpose of receiving oral and written comments on the DEIS.

FOR FURTHER INFORMATION CONTACT: Ms. Timarie Seneca, Community Planner, BRAC Operations Office at (619) 532-0955, by fax at (619) 532-0940 or write to Commander, Southwest Division, Naval Facilities Engineering Command, Attn: Ms. Timarie Seneca, Code 06CM.TS, 1230 Columbia Street, Suite 1100, San Diego, CA 92101-8517.

SUPPLEMENTARY INFORMATION: The DEIS has been prepared in accordance with the Defense Base Closure and Realignment Act of 1990 (10 U.S.C. 2687) and the recommendations of the Defense Base Closure and Realignment Commission approved by the President and accepted by Congress in 1991, 1993, and 1985.

A Notice of Intent (NOI) to prepare the DEIS was published in the Federal Register at 61 FR 50004, Sep. 24, 1996. A public scoping meeting was held on October 9, 1996, at the San Francisco Ferry Building.

The meeting was advertised in the San Francisco Chronicle, Marin Independent Journal, San Jose Mercury News, and Oakland Tribune on Sunday, September 29, 1996, and Tuesday, October 1, 1996.

The proposed action is the disposal of Navy property for subsequent reuse and redevelopment, in accordance with the 1990 Defense Base Closure and Realignment Act, and the 1993 Base Realignment and Closure Commission recommendations. NSTI was operationally closed on September 30, 1997. NSTI is located on two islands in the San Francisco Bay approximately midway between the shores of the cities of San Francisco and Oakland. The larger island, called Treasure Island, consists of 402 acres (160 hectare (ha)) of dry land created with artificial fill in the 1930s. Approximately 681 acres (276 ha) of dry and submerged land are available for disposal on Treasure Island. Yerba Buena Island is a natural island connected to Treasure Island by a causeway. Approximately 239 acres (97 ha) of dry and submerged land are available for disposal on Yerba Buena Island. Approximately 36 acres (14 ha) of land on Treasure Island have been transferred to the Department of Labor, approximately 97 acres (39 ha) on Yerba Buena Island have been transferred to Caltrans, and a total of 22 acres (9 ha) are ultimately scheduled for transfer to the Coast Guard.

The DEIS evaluates three reuse alternatives. Navy disposal is assumed as part of each of the reuse alternatives. Alternative 1 represents full implementation of the development scenario described in the Naval Station Treasure Island Draft Reuse Plan developed by the Local Redevelopment Authority (LRA). Alternative 2 is based on comments received during the scoping process, including the recommendations of an Urban Land Institute advisory panel. Alternative 3 represents a lower level of redevelopment than proposed in the Draft Reuse Plan. A fourth alternative, No Action, assumes no disposal of property and retention of the property by the Navy in an inactive or caretaker status. Under the No Action Alternative, existing leases would continue until they expire or are terminated, no new leases would be entered into, and all buildings and other facilities would remain vacant and unused.

Alternative 1 (Preferred Alternative) features a combination of publicly oriented development, open space and recreation, and extensive residential development at full build out. Under Alternative 1, publicly oriented development on Treasure Island would include a theme attraction similar to Disneyland; with lighting displays, some tall structures, such as a roller coaster, and at least one landmark structure assumed to be up to 100 feet (305 meters (m)) tall. Development would also include a 300-room hotel and a 1,000-room hotel with three restaurants and offices. Publicly oriented uses on Yerba Buena Island would include a 150-room hotel, conference facilities, and a restaurant. Clipper Cove Marina would also be expanded and a new yacht club would be developed. Community uses on both islands would include public parks and open space, schools, a bikeway and pedestrian path. Industrial uses would include a new wastewater treatment plant, a new police station, and a new fire station on Treasure Island; these facilities and an existing fire station on Yerba Buena Island would be staffed with fire, paramedic, and police personnel. The elementary school, child development center, fire training school, and brig would be retained and reused for their original uses, with some modifications. Residential housing use would include reuse of existing housing as well as construction of new housing on both islands. No decision on the proposed action will be made until the NEPA process has been completed.

Potential impacts evaluated in the DEIS include, but are not limited to: Land use, visual resources, socio-economics, public services, utilities, cultural resources, biological resources, geology and soils, water resources, traffic and circulation, air quality, noise, and hazardous materials and waste. Potentially significant impacts that can be mitigated include: land use impacts related to inconsistencies with the general plan designation and zoning classification; traffic impacts to westbound and eastbound on and off ramps on Yerba Buena Island under Alternative 1; impacts to transit operations due to lack of bus service between NSTI and the East Bay under all alternatives; biological impacts to mudflats, wading shorebirds and essential fish habitat due to increased pedestrian and boating activities under all alternatives; potential exposure of individuals and property to ponding under Alternatives 1 and 3 and flooding hazards under all alternatives; and potential health and safety implications from future development activities interfering with remedial actions under the Comprehensive Environmental Response, Compensation, and Liability Act. The one significant impact that cannot be mitigated would be to cultural resources from demolition of two buildings on Treasure Island eligible for listing on the National Register of Historic Places under Alternative 2.

The DEIS has been distributed to affected Federal, state, and local agencies and other interested parties. In addition, copies of the DEIS are available for review at the following public libraries:

—San Francisco Main Library, 100 Larkin St (at Grove), San Francisco, CA 94102, (415) 557-4400

—Bayview/Waden Branch Library, 5075 3rd St (at Revere Ave), San Francisco, CA 94124, (415) 715-4100

—Potrero Branch Library, 1616 20th St (between Arkansas and Connecticut St), San Francisco, CA 94107, (415) 695-6640

—Chinatown Branch Library, 1135 Powell St (near Jackson St), San Francisco, CA 94108, (415) 274-0275

—North Beach Branch Library, 2000 Mason St (at Columbus Ave), San Francisco, CA 94133, (415) 274-0270

—Oakland Public Library (Main Branch), 125 14th St, Oakland, CA 94612, (510) 238-3134

—Oakland Library (Eastmont Branch), Eastmont Mall—2nd Flr, 7200 Bancroft Ave, Ste 211, Oakland, CA 94605, (510) 615-5726

A public hearing will be held to inform the public of the DEIS findings and to solicit and receive oral and written comments. Federal, state, and local agencies and interested parties are invited to be present at the hearing. Oral comments will be heard and transcribed by a court recorder; written comments are also requested to ensure accuracy of the record. Agencies and the public are also invited and encouraged to provide written comments in addition to, or in lieu of, oral comments at the public hearing. All comments, both oral and written, will become part of the official record. Comments should clearly describe specific issues or topics with the DEIS. In the interest of allowing everyone a chance to participate, speakers will be requested to limit their oral comments to five (5) minutes. Longer comments should be summarized at the public hearing and submitted in writing either at the hearing or mailed to: Commander, Southwest Division, Naval Facilities Engineering Command, Attn: Ms. Timarie Seneca, Code 06CM.TS, 1230 Columbia St, Suite 1100, San Diego, CA 92101-8517. Comments must be postmarked by June 24, 2002, to be considered in this environmental review process.

Dated: May 2, 2002.
R.E. Vincent II,
Lieutenant Commander, Judge Advocate General's Corps, U.S. Navy, Federal Register Liaison Officer.

[FR Doc. 02-11773 Filed 5-9-02; 8:45 am]

BILLING CODE 3810-FF-P